DEPARTMENT OF ENERGY

Federal Energy Regulatory Commission

[Docket No. RP01-147-000]

Equitrans, L.P.; Notice of Proposed Changes in FERC Gas Tariff

December 6, 2000.

Take notice that on December 1, 2000, Equitrans, L.P. (Equitrans) tendered for filing as part of its FERC Gas Tariff, Original Volume No. 1, the following revised tariff sheet to become effective January 1, 2001:

Fourth Revised Sheet No. 5

Sixth Revised Sheet No. 6

Third Revised Sheet No. 10

Equitrans states that the purpose of this filing is to comply with the “Order Approving the Gas Research Institute's 2001 Research, Development and Demonstration Program and 2001-2005 Five Year Plan” issued on September 19, 2000 in Docket No. RP00-313-000. The Commission authorized pipeline companies to collect the Gas Research Institute (GRI) funding unit from their customers. The 2001 GRI unit surcharge approved by the Commission is (1) $0.0900 per dekatherm (Dth) per month demand surcharge fro high load factor customers, (2) $0.0550 per Dth per month demand surcharge for low load factor customers and (3) $0.0070 per Dth commodity/usage surcharge.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at ­ http://www.ferc.fed.us/efi/doorbell.htm.

David P. Boergers,
Secretary.

[FR Doc. 00-31544 Filed 12-11-00; 8:45 am]

BILLING CODE 6717-01-M